NATIONAL ARCHIVES AND RECORDS ADMINISTRATION

36 CFR Part 1258

[FDMS Docket # NARA-07-0002]

RIN 3095-AB49

NARA Reproduction Fees

AGENCY: National Archives and Records Administration (NARA).

ACTION: Interim final rule; request for comments.

SUMMARY: NARA is revising its regulations relating to reproduction of records and other materials in the custody of the Archivist of the United States. We have determined that it is not appropriate to include in those regulations the reproduction of records of other Federal agencies stored in NARA Federal records centers that are not in our legal custody. This interim final rule will affect individuals and Federal agencies who request copies of Federal agency records in NARA Federal records centers.

DATES: This interim final rule is effective May 29, 2007. Comments on this interim final rule must be received by April 27, 2007 at the address shown below. NARA intends to publish any changes to the rule resulting from this comment period before the May 29, 2007 effective date.

ADDRESSES: NARA invites interested persons to submit comments on this interim final rule. Comments may be submitted by any of the following methods:

Federal eRulemaking Portal: http://www.regulations.gov. Follow the instructions for submitting comments.

Fax: Submit comments by facsimile transmission to 301-837-0319.

Mail: Send comments to Regulations Comments Desk (NPOL), Room 4100, Policy and Planning Staff, National Archives and Records Administration, 8601 Adelphi Road, College Park, MD 20740-6001.

Hand Delivery or Courier: Deliver comments to 8601 Adelphi Road, College Park, MD.

FOR FURTHER INFORMATION CONTACT: Jennifer Davis Heaps at 301-837-1850 or fax at 301-837-0319.

SUPPLEMENTARY INFORMATION: Elsewhere in the Proposed Rules section of today's Federal Register, NARA is proposing to revise the reproduction fee schedule in 36 CFR part 1258 to reflect the current costs of providing copies of archival records. In the past, NARA has applied the fee schedule in § 1258.12 to our records center holdings when the agency that owns the records did not have a separate fee schedule.

NARA provides records storage services at the Federal Records Center Program (FRCP) national and regional records centers on a reimbursable basis to Federal agencies. The FRCP charges the agencies for the use of the space, retrieving and refiling records, and other administrative matters related to agency records. The records of other agencies stored in Federal records centers still belong to the agencies that created and maintained them, and NARA provides public access to those records only as authorized by the owning agency.

As a fully reimbursable program, FRCP must recover all costs for making copies of agency records from the agency or the agency's customer. Because we are providing copies in accordance with the owning agency's instructions, the agency, not NARA, must determine the extent to which the costs will be borne by the agency or the agency's customer. Thus, it is not appropriate to include the records center program in the fee schedule set forth in part 1258.

This interim final rule is not a significant regulatory action for the purposes of Executive Order 12866 and has not been reviewed by the Office of Management and Budget. As required by the Regulatory Flexibility Act, I certify that this rule will not have a significant impact on a substantial number of small entities because it affects individual researchers. This regulation does not have any federalism implications. This rule is not a major rule as defined in 5 U.S.C. Chapter 8, Congressional Review of Agency Rulemaking.

List of Subjects in 36 CFR Part 1258

Archives and records.

For the reasons set forth in the preamble, NARA amends part 1258 of title 36, Code of Federal Regulations, as follows:

PART 1258-FEES

1. The authority citation for part 1258 continues to read as follows:

Authority: 44 U.S.C. 2116(c) and 2307.

2. Amend § 1258.2 by removing paragraph (b) and redesignating paragraph (c) as paragraph (b) to read as follows:

§ 1258.2 What does the NARA reproduction fee schedule cover?

* * * * *

(b) Records filed with the Office of the Federal Register.

Dated: February 20, 2007.
Allen Weinstein,
Archivist of the United States.

[FR Doc. E7-3162 Filed 2-23-07; 8:45 am]

BILLING CODE 7515-01-P